DEPARTMENT OF HOMELAND SECURITY

Federal Emergency Management Agency

[Docket ID FEMA-2018-0002; Internal Agency Docket No. FEMA-B-1831]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472 (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation (Acting), Department of Homeland Security, Federal Emergency Management Agency.

State and county | Location and case No. | Chief executive officer of community | Community map repository | Online location of letter of map revision | Date of modification | Community No.
Arizona:
Maricopa | City of El Mirage (18-09-0120P) | The Honorable Lana Mook, Mayor, City of El Mirage, 10000 North El Mirage Road, El Mirage, AZ 85335 | City Hall, 14405 North Palm Street, El Mirage, AZ 85335 | https://msc.fema.gov/portal/advanceSearch | Aug. 10, 2018 | 040041
Maricopa | City of Surprise (18-09-0120P) | The Honorable Sharon Wolcott, Mayor, City of Surprise, 16000 North Civic Center Plaza, Surprise, AZ 85003 | Public Works Department, Engineering Development Services, 16000 North Civic Center Plaza, Surprise, AZ 85374 | https://msc.fema.gov/portal/advanceSearch | Aug. 10, 2018 | 040053
Mohave | Town of Colorado City (17-09-2669P) | The Honorable Joseph Allred, Mayor, Town of Colorado City, P.O. Box 70, Colorado City, AZ 86021 | Town Hall, 25 South Central, Colorado City, AZ 86401 | https://msc.fema.gov/portal/advanceSearch | Aug. 13, 2018 | 040059
Mohave | Unincorporated Areas of Mohave County (17-09-2669P) | The Honorable Gary Watson, Chairman, Board of Supervisors, Mohave County, 700 West Beale Street, Kingman, AZ 86402 | Mohave County Administration Building, 700 West Beale Street, Kingman, AZ 86402 | https://msc.fema.gov/portal/advanceSearch | Aug. 13, 2018 | 040058
California: Riverside | City of Desert Hot Springs (18-09-0176P) | The Honorable Scott Matas, Mayor, City of Desert Hot Springs, 65950 Pierson Boulevard, Desert Hot Springs, CA 92240 | Planning Department, 65950 Pierson Boulevard, Desert Hot Springs, CA 92240 | https://msc.fema.gov/portal/advanceSearch | Aug. 10, 2018 | 060251
Florida: St. Johns | Unincorporated Areas of St. Johns County (18-04-2271P) | The Honorable Henry Dean, Chairman, St. Johns County Board of Commissioners, St. Johns County Administration, 500 San Sebastian View, St. Augustine, FL 32084 | St. Johns County, Permitting Center, 4040 Lewis Speedway, St. Augustine, FL 32084 | https://msc.fema.gov/portal/advanceSearch | Aug. 17, 2018 | 125147
Minnesota:
Dakota | City of Coates (18-05-2617P) | The Honorable Craig Franzmeier, Mayor, City of Coates, 3033 160th Street East, Rosemount, MN 55068 | City Clerk's Office, 15970 Comstock Avenue, Rosemount, MN 55068 | https://msc.fema.gov/portal/advanceSearch | Aug. 10, 2018 | 270728
Dakota | Unincorporated Areas of Dakota County (18-05-2617P) | The Honorable Kathleen A. Gaylord, Chair, Dakota County Board of Commissioners, Dakota County Administration Center, 1590 Highway 55, Hastings, MN 55033 | Dakota County Administrator Center, 1590 Highway 55, Hastings, MN 55033 | https://msc.fema.gov/portal/advanceSearch | Aug. 10, 2018 | 270101
Nevada: Douglas | Unincorporated Areas of Douglas County (17-09-1559P) | The Honorable Steve Thaler, Chairman, Board of Commissioners, Douglas County, P.O. Box 218, Minden, NV 89423 | Douglas County Community Development, 1594 Esmeralda Avenue, Minden, NV 89423 | https://msc.fema.gov/portal/advanceSearch | Aug. 23, 2018 | 320008
New York:
Dutchess | Town of Washington (18-02-0573P) | The Honorable Gary E. Ciferri, Supervisor, Town of Washington, P.O. Box 667, Millbrook, NY 12545 | Washington Town Hall, 10 Reservoir Drive, Millbrook, NY 12545 | https://msc.fema.gov/portal/advanceSearch | Sep. 28, 2018 | 361147
Dutchess | Village of Millbrook (18-02-0573P) | The Honorable Rod Brown, Mayor, Village of Millbrook, P.O. Box 349, Millbrook, NY 12545 | Village of Millbrook, 35 Merritt Avenue, Millbrook, NY 12545 | https://msc.fema.gov/portal/advanceSearch | Sep. 28, 2018 | 360219
Ohio: Warren | City of Springboro (18-05-0285P) | The Honorable John Agenbroad, Mayor, City of Springboro, 320 West Central Avenue, Springboro, OH 45066 | Springboro Municipal Building, 320 West Central Avenue, Springboro, OH 45066 | https://msc.fema.gov/portal/advanceSearch | Aug. 10, 2018 | 390564
Texas: Dallas | Town of Highland Park (18-06-0588P) | The Honorable Joel T. Williams, III, Mayor, Town of Highland Park, 4700 Drexel Drive, Highland Park, TX 75205 | Public Works Department, 4700 Drexel Drive, Highland Park, TX 75205 | https://msc.fema.gov/portal/advanceSearch | Aug. 3, 2018 | 480178
Washington:
Kittitas | City of Ellensburg, (17-10-1541P) | The Honorable Bruce Tabb, Mayor, City of Ellensburg, City Hall, 501 North Anderson Street, Ellensburg, WA 98926 | City Hall, 501 North Anderson Street, Ellensburg, WA 98926. | https://msc.fema.gov/portal/advanceSearch | Aug. 17, 2018 | 530234
Kittitas | Unincorporated Areas of Kittitas County, (17-10-1541P) | The Honorable Laura Osiadacz, Chairman, Board of Commissioners, Kittitas County, 205 West 5th Avenue Suite 108, Ellensburg, WA 98926 | Kittitas County Community Development Services, 411 North Ruby Street Suite 1, Ellensburg, WA 98926 | https://msc.fema.gov/portal/advanceSearch | Aug. 17, 2018 | 530095

[FR Doc. 2018-11942 Filed 6-1-18; 8:45 am]

BILLING CODE 9110-12-P